DEPARTMENT OF TRANSPORTATION

Federal Transit Administration

FTA Section 5307 Urbanized Area Formula Program: Allocation of Funding Caps for Treating Fuel and Electric Utility Costs for Vehicle Propulsion as a Capital Maintenance Expense

AGENCY: Federal Transit Administration (FTA), DOT.

ACTION: Notice.

SUMMARY: The Consolidated and Further Continuing Appropriations Act, 2012 (Pub. L. 112-055) permits the Federal Transit Administration (FTA) to treat fuel costs for vehicle operations, including utility costs for the propulsion of electrical vehicles, as a capital maintenance item for grants made in FY 2012 under the Urbanized Area Formula Program, up to a total of $100,000,000. FTA announced this provision and its implementation in the FTA Fiscal Year 2012 Notice of Apportionments, Allocations, and Program Information, published in the Federal Register on January 11, 2012 (Vol. 77, No. 7 1786-1856). Since total obligations for this purpose are limited to $100,000,000, FTA is limiting the use of funds for this purpose to program recipients that responded to an announcement which was posted at www.grants.gov on January 25 and closed on February 29. Based on the $100,000,000 cap on use of this provision, FTA has allocated funding caps to program recipients that responded to this announcement based on their relative share of the FY 2012 Section 5307/5340 formula apportionment. Recipients are advised that this provision does not provide any funding in addition to their Section 5307/5340 program apportionment.

FOR FURTHER INFORMATION CONTACT: For general information about this notice contact David Schneider, Acting Director, Office of Transit Programs, at (202) 493-0175. Please contact the appropriate FTA regional office for any specific requests for information or technical assistance.

SUPPLEMENTARY INFORMATION: The Consolidated and Further Continuing Appropriations Act, 2012, permits FTA to treat fuel costs for vehicle operations, including utility costs for the propulsion of electrical vehicles, as a capital maintenance item for grants made in FY 2012 under the Urbanized Area Formula Program, up to a total of $100,000,000. FTA announced this provision and its implementation in the FTA Fiscal Year 2012 Notice of Apportionments, Allocations, and Program Information, published in the Federal Register on January 11, 2012 (Vol. 77, No. 7 1786-1856). Program recipients in the identified urbanized areas are eligible for reimbursement of fuel and electrical utility costs for vehicle propulsion under this provision at an 80/20 Federal/local share.

Since total obligations for this purpose are limited to $100,000,000, the use of funds for this purpose is limited to urbanized areas that responded to the solicitation that was announced in the January 11, 2012 FTA Fiscal Year 2012 Notice of Apportionments, Allocations, and Program Information. Applications were received between January 25 and February 29 via www.grants.gov.

Eligible respondents were required to be either the designated recipient of Section 5307 formula apportionments in urbanized areas over 200,000 in population or a State Department of Transportation or other designee for urbanized areas under 200,000 in population. FTA received requests from 70 large UZAs and 24 States, on behalf of 106 small UZAs. The total amount requested was $237,168,845. To allocate the available resources, FTA has determined funding caps for all requesting UZAs and States (see Table 1 and 2) proportional to the Section 5307/5340 formula apportionment. Where a UZA or State requested less than the calculated cap amount, the funding reflects the requested amount. Table 1 includes the name of each requesting urbanized area over 200,000 in population, the name of the requesting designated recipient(s), and the dollar cap on reimbursements for all funding recipients within the urbanized area. Table 2 shows the States that requested this provision, the list of small urbanized areas for which the State submitted requests, and the statewide funding cap on reimbursements made through each State's Governor's apportionment. Although there may be additional small urbanized areas within the states listed in Table 2, the funds displayed in Table 2 can only be used for the specific small urbanized areas listed, as these areas were identified by the States in their requests to take advantage of the fuel/electric propulsion provision. The State may sub-allocate the funding cap among the listed small urbanized areas on the basis of need.

Program recipients are advised that the distribution of this provision within an urbanized area is subject to Federal planning requirements and will require coordination between the designated recipient(s), the Metropolitan Planning Organization (MPO), and other direct recipients of FTA funds. Funds sub-allocated to direct recipients within a UZA will be included in their FTA grants. Procurements to which these 5307 funds are applied must comply with Federal procurement requirements and include all applicable Federal procurement clauses.

Recipients are reminded that this provision does not provide any additional funding but rather how they may use a portion of their UZA's Section 5307/5340 program apportionment. Funds granted under this provision will be treated as an alternative use of the eligible recipient's formula funding. While this provision applies to grants made during FY 2012, it is not limited to grants made using FY 2012 apportioned funds and may also include grants made during FY 2012 that include prior year funds. Recipients within the identified urbanized areas are required to obligate funds no later than September 30, 2012. Once funds are obligated, they will remain available until expended, and may be used for eligible costs incurred during the applicant's current fiscal year plus one additional year. FTA does not plan to reallocate funding caps under this provision.

Issued in Washington, DC, this 9th day of April, 2012.
Peter Rogoff,
Administrator.

BILLING CODE P

BILLING CODE C

[FR Doc. 2012-8853 Filed 4-11-12; 8:45 am]

BILLING CODE P